NATIONAL SCIENCE FOUNDATION

Agency Information Collection Activities: Comment Request

ACTION: Notice.

SUMMARY: Under the Paperwork Reduction Act of 1995, Pub. L. 104-13 (44 U.S.C. 3506(c)(2)(A)), and as part of its continuing effort to reduce paperwork and respondent burden, the National Science Foundation invites the general public and other Federal agencies to take this opportunity to comment on this information collection.

DATES: Written comments should be received by August 25, 2003 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf,gov.

FOR ADDITIONAL INFORMATION OR COMMENTS: Contact Suzanne Plimpton, the NSF Reports Clearance Officer, phone (703) 292-7556, or send e-mail to splimptod@nsf.gov. Individuals who use a telecommunications device for the deaf (TDD) may call the Federal Information Relay Service (FIRS) at 1-800-877-8339 between 8 a.m. and 8 p.m., Eastern time, Monday through Friday.

SUPPLEMENTARY INFORMATION: Title: Generic Clearance of the Science Resources Statistics Survey Improvement Projects.

OMB Approval Number: 3145-0174.

Expiration Date of Approval: December 31, 2003.

Abstract. Generic Clearance of the Science Resources Statistics Survey Improvement Projects. The National Science Foundation's (NSF) Division of Science Resources Statistics (SRS) needs to collect timely data on constant changes in the science and technology sector and to provide the most complete and accurate information possible to policy makers in Congress and throughout government and academia. NSF/SRS conducts many surveys to obtain the data for these purposes. The Generic Clearance will be used to ensure that the highest quality data is obtained from these surveys. State-of-the-art methodology will be used to develop evaluate, and test questionnaires as well as to improve survey methodology. This may include field or pilot tests of questions for future large-scale surveys, as needed.

Expected Respondents. The respondents will be from industry, academia, nonprofit organizations, members of the public, and Federal agencies. Respondents will be either individuals or institutions, depending upon the survey under investigation. Qualitative procedures will generally be conducted in person, but quantitative procedures may be conducted using the same mode as the survey under investigation. Up to 8,020 respondents will be contacted across all survey improvement projects. No respondent will be contacted more than twice in one year under this generic clearance. Every effort will be made to use technology to limit the burden on respondents from small entities.

Both qualitative and quantitative methods will be used to improve NSF's current data collection instruments and processes and to reduce respondent burden, as well as to develop new surveys. Qualitative methods include, but are not limited to, expert review; exploratory, cognitive, and usability interviews; focus groups; and respondent debriefings. Cognitive and usability interviews may include the use of scenarios, paraphrasing, card sorts, vignette classifications, and rating tasks. Quantitative methods include, but are not limited to, behavior coding, split panel tests, and field tests.

Information being collected is not considered sensitive. In general, assurances of data confidentiality will not be provided to respondents in the pretests. Instead, respondents have the option of requesting that any and all data they provide be kept confidential.

Use of the Information. The purpose of these studies is to use the latest and most appropriate methodology to improve NSF surveys. The data will be used internally to improve NSF surveys. Methodological findings may be presented externally in technical papers at conferences, published in the proceedings of conferences, or in journals. Improved NSF surveys will help policy makers in decisions on research and development funding, graduate education, scientific and technical workforce, regulations, and reporting guidelines, as well as contributing to reduced survey costs.

Burden on the Public. NSF estimates that a total reporting and recordkeeping burden of 11,200 hours will result from pretesting to improve its surveys. The calculation is:

Table 1.—Anticipated Surveys To Undertake Improvement Projects, Along With the Number of Respondents and Burden Hours Per Survey
Survey name | Number of respondents ¹ | Hours
Graduate Student Survey | 500 | 1,500
Sestat Surveys | 5,000 | 5,000
New Postdoc Survey | 800 | 1,000
New and Redesigned R&D Surveys:
Academic R&D | 600 | 600
Government R&D | 50 | 50
Nonprofit R&D | 200 | 100
Industry R&D | 500 | 1,000
Survey of Scientific & Engineering Facilities | 300 | 150
Instrumentation | 150 | 300
Public Understanding of S&E Surveys | 200 | 50
Scientific Publications | 120 | 250
Additional surveys not specified | 400 | 1,200
Total | 8,820 | 11,200
¹ Number of respondents listed for any individual survey may represent several methodological improvement projects.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Comments submitted in response to this notice will be summarized and/or included in the request for OMB approval of this information collection; they also will become a matter of public record.

Dated: June 19, 2003.
Suzanne Plimpton,
Reports Clearance Officer, National Science Foundation.

[FR Doc. 03-15966 Filed 6-24-03; 8:45 am]

BILLING CODE 7555-01-M